DEPARTMENT OF COMMERCE

International Trade Administration

Notice of Meeting: Summit on Trade-Related Standards Issues

ACTION: Request for public comments and notice of opportunity to apply to participate in an internal International Trade Administration summit on trade-related standards issues.

SUMMARY: The Department of Commerce International Trade Administration (ITA) is seeking input from U.S. stakeholders (companies, private sector organizations and trade associations active in trade-related standards work) on standards, conformity assessment and regulatory trends and challenges in foreign markets and the assistance they require from ITA to effectively address standards-related trade barriers and trends to take advantage of export opportunities. ITA will use this input in reviewing how to improve services and programs to best meet the needs of U.S. stakeholders in the standards area. In addition, ITA will convene an internal summit on how to improve such services and programs on March 6-7, 2018 in Washington, DC, and is soliciting private sector requests for limited opportunities to participate in portions of the summit.

DATES: Although input is always welcome, for consideration as part of the immediate review, submit comments by December 18, 2017. Requests to participate in the March 6-7, 2018 ITA internal summit also must be received by COB on December 18, 2017.

ADDRESSES: Comments can be submitted online or in writing. Written submissions should be directed to Renee Hancher, Office of Standards and Investment Policy, Industry and Analysis, U.S. Department of Commerce, Room 28019, 14th and Constitution Avenue NW., Washington, DC 20230. Online submissions should be submitted using http://www.regulations.gov. To ensure the timely receipt and consideration of comments, ITA strongly encourages commenters to make online submissions using http://www.regulations.gov. Comments should be submitted under docket ITA-2017-0007.

FOR FURTHER INFORMATION CONTACT: Contact Renee Hancher in the Office of Standards and Investment Policy, Industry and Analysis, International Trade Administration, by telephone at (202) 482-3493 (this is not a toll-free number) or email at Renee.Hancher@trade.gov.

SUPPLEMENTARY INFORMATION:

Background: The International Trade Administration (ITA) is the premier resource for American companies competing in the global marketplace. ITA has more than 2,200 employees assisting U.S. exporters in more than 100 U.S. cities and 75 markets worldwide. For more information on ITA visit www.trade.gov. Additional information about ITA's standards activities is available at http://www.trade.gov/td/standards/index.html.

Request for Input: ITA is currently reviewing its trade-related standards services and programs in support of U.S. stakeholders to ensure that the services and assistance provided best meet the needs of U.S. stakeholders and support the expansion of the U.S. economy and creation of U.S. jobs. Trade-related standards work includes work related to the adoption and recognition of standards; standards dialogues and other bilateral and regional engagements with trading partners; preparation of standards information in ITA publications such as Top Market reports and Country Commercial Guides; and work to address adoption, implementation, and enforcement of technical regulations and conformity assessment procedures inconsistent with World Trade Organization and free trade agreement obligations. ITA is specifically seeking information on trade-related standards trends in foreign markets, the challenges U.S. exporters are encountering in those markets, and the assistance needed from the U.S. Government, and specifically ITA, to address those challenges and take advantage of export opportunities. ITA will use this input in reviewing how to improve ITA standards-related services and programs to best meet the needs of U.S. stakeholders, including during an internal summit of ITA staff working on trade-related standards issues on March 6-7, 2018 in Washington, DC.

Comments submitted may include information about key standards trends affecting the global competitiveness of U.S. industry; stakeholder experiences, if any, with ITA services that aid stakeholders in understanding and acting on standards-related trade and regulatory issues; and suggestions for improving ITA services in the standards area. Respondents do not need to have detailed knowledge of or experience with ITA standards-related services, but those that do may note this in their submissions.

Submitting Comments Using http://www.regulations.gov: To find the correct docket, enter ITA-2017-0007 in the “Enter Keyword or ID” window at the http://www.regulations.gov home page and click “Search.” The site will provide a search-results page listing all documents associated with the docket number. Find a reference to this notice by selecting “Notice” under “Document Type” on the search-results page, and click on the link entitled “Comment now!” The http://www.regulations.gov Web site provides the option of making submissions by filling in a comment field, or by attaching a document. ITA prefers submissions to be provided in an attached document. (For further information on using http://www.regulations.gov, please consult the resources provided on the Web site by clicking on the “Help” tab.)

Do not include any privileged or confidential business information in comments submitted. The file name should begin with the character “P” (signifying that the comments contain no privileged or confidential business information and can be posted publicly), followed by the name of the person or entity submitting the comments. Written submissions should include an original and five (5) copies.

Please do not attach separate cover letters to electronic submissions; rather, include any information that might appear in a cover letter in the comments themselves. Similarly, to the extent possible, please include any exhibits, annexes, or other attachments in the same file as the submission itself, not as separate files.

Opportunity to present during the ITA Internal Summit: The Summit will convene ITA staff from headquarters and the domestic and foreign fields to develop recommendations for improving standards-related services and programs for ITA stakeholders. It will include “open sessions” with private sector stakeholders where they may share their priorities and recommendations for ITA's work on trade-related standards issues. To accommodate as many stakeholders as possible, the time per stakeholder will be limited. Stakeholders interested in presenting during a summit open session must apply by December 18, 2017, identifying the name and address of the proposed speaker and including a brief description of the stakeholder interest and intended remarks. Stakeholders are limited to one presenter per company or organization.

In seeking private sector presenters, ITA will consider factors such as: (1) Frequency and type of standards-related trade barriers experienced with the goal of selecting presenters with significant experience working to overcome standards-related barriers in foreign markets, and whose experience represents the spectrum of such barriers experienced by U.S. exporters (e.g., challenges with standards development, testing and conformity assessment, and meeting standards-related regulatory requirements in foreign markets); and (2) balance of industries and roles with the goal of selecting presenters that represent a mix of industries affected by standards-related trade barriers, and who are conversant on issues affecting U.S. stakeholders/exporters (standards development, conformity assessment, and technical regulations).

Chris Rosettie,
Director, Office of Standards and Investment Policy.

[FR Doc. 2017-24605 Filed 11-16-17; 8:45 am]

BILLING CODE 3510-DR-P